DEPARTMENT OF COMMERCE

International Trade Administration

[A-533-824]

Notice of Amended Final Antidumping Duty Determination of Sales at Less Than Fair Value and Antidumping Duty Order: Polyethylene Terephthalate Film, Sheet, and Strip (PET Film) from Taiwan

AGENCY: Import Administration, International Trade Administration, Department of Commerce.

SUMMARY: We are amending our final determination (see Final Determination of Sales at Less Than Fair Value: Polyethylene Terephthalate Film, Sheet, and Strip (PET Film) from Taiwan, 67 FR 35474 (May 20, 2002) (Final Determination)), to reflect the correction of a ministerial error made in the final determination. This correction is in accordance with section 735(e) of the Tariff Act of 1930, as amended (the Act) and section 351.224 of the Department of Commerce's (the Department's) regulations. The period of investigation (POI) covered by this amended final determination is April 1, 2000, through March 31, 2001. This notice also constitutes the antidumping duty order with respect to polyethylene terephthalate film, sheet, and strip (PET film) from Taiwan.

EFFECTIVE DATE: July 1, 2002.

FOR FURTHER INFORMATION CONTACT: Ron Trentham or Tom Futtner at (202) 482-6320 or (202) 482-3814, respectively; AD/CVD Enforcement, Office 4, Group II, Import Administration, Room 1870, International Trade Administration, U.S. Department of Commerce, 14th Street and Constitution Avenue, NW, Washington, DC 20230.

SUPPLEMENTARY INFORMATION:

Applicable Statute and Regulations

Unless otherwise indicated, all citations to the Act are references to the provisions effective January 1, 1995, the effective date of the amendments made to the Act by the Uruguay Round Agreements Act. In addition, unless otherwise indicated, all citations to the Department's regulations are to 19 CFR part 351 (April 2001).

Scope of The Order

For purposes of this order, the products covered are all gauges of raw, pretreated, or primed PET film, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and Customs purposes. The written description of the scope of this proceeding is dispositive.

Amended Final Determination

On May 20, 2002, in accordance with sections 735(d) and 777(i)(1) of the Act, the Department published its final determination in this proceeding. See Final Determination, 67 FR 35474. Pursuant to 19 CFR 351.224(c), on May 20, 2002, we received a timely filed submission from Nan Ya alleging that, in the final determination, the Department made two ministerial errors in calculating its margin. On May 28, 2002, we received rebuttal comments from the petitioners.¹

¹ The petitioners in this investigation are Dupont Teijin Films, Mitsubishi Polyester Film of America and Toray Plastics (America) Inc. (collectively the petitioners).

Nan Ya claims that the figure the Department chose to apply as adverse facts available (AFA) is inconsistent with the Department's underlying rational for its decision to apply AFA. According to Nan Ya, the Department's methodology for deriving the AFA figure fails to calculate this figure on the basis of different products with different product thicknesses.

In rebuttal the petitioners contend that Nan Ya's allegation must be rejected because it is outside the scope of a ministerial error. The petitioners argue that Nan Ya challenges the Department's chosen “methodology for deriving the adverse facts available figure....” According to the petitioners, taking issue with the Department's substantial findings or methodological decisions are not valid claims of ministerial error.

We disagree with Nan Ya's allegation that our cost adjustment ratio is a ministerial error and, thus, have not recalculated our AFA cost adjustment ratio.

Further, Nan Ya claims that the Department has erroneously excluded the material adjustment offset field in the calculation of its revised total cost of manufacture (COM). In rebuttal, the petitioners agree that the Department's method of calculating conversion costs failed to properly account for Nan Ya's adjustment to material costs. The petitioners argue, however, that if the Department revises its calculation of COM, it should calculate the conversion cost by summing the labor, variable and fixed overhead costs incurred in the stretching and slitting stages.

In accordance with section 735(e) of the Act, we have determined that with respect to the calculation revising total COM, we agree with Nan Ya that a ministerial error was made in our final margin calculations. Thus, we are amending our final determination in order to correct this ministerial error and consequently to revise the antidumping duty rate for Nan Ya. The revised weighed-average dumping margins for Nan Ya and for All Others are listed below. We did not adopt petitioners' recommended solution because it would require a change to the Department's chosen methodology for calculating NanYa's COM and is outside the scope of a ministerial error.

For a detailed analysis of the ministerial errors that we addressed, and the Department's position on each, see the Memorandum to Bernard T. Carreau from Holly A. Kuga and Neal M. Halper, dated concurrently with this notice, regarding Ministerial Error Allegations on file in room B-099 of the Main Commerce building.

Antidumping Duty Order

On June 24, 2002, in accordance with section 735(d) of the Act, the International Trade Commission (the Commission) notified the Department of its final determination that an industry in the United States is materially injured by reason of less-than-fair-value imports of subject merchandise from Taiwan, pursuant to section 735(b)(1)(A) of the Act. Therefore, in accordance with section 736(a)(1) of the Act, the Department will direct U.S. Customs to assess, upon further advice by the Department, antidumping duties equal to the amount by which the normal value of the merchandise exceeds the export price of the merchandise for all relevant entries of PET film from Taiwan. These antidumping duties will be assessed on all unliquidated entries of subject merchandise from Nan Ya entered, or withdrawn from warehouse, for consumption on or after May 20, 2002, the date of publication of the final determination in the Federal Register. For Shinkong Synthetic Fibers Corporation and all other companies, antidumping duties will be assessed on all unliquidated entries of subject merchandise entered, or withdrawn from warehouse, for consumption on or after December 21, 2001, the date on which the Department published its Notice of Preliminary Determination of Sales at Less Than Fair Value and Postponement of Final Determination: Polyethylene Terephthalate Film, Sheet, and Strip (PET Film) From Taiwan, 66 FR 65889 (December 21, 2001).

On or after the date of publication of this notice in the Federal Register, U.S. Customs must require, at the same time as importers would normally deposit estimated duties, cash deposits for the subject merchandise equal to the estimated weighted-average dumping margins listed below. The “All Others” rate applies to all exporters of subject merchandise not specifically listed below.

Manufacturer/exporter | Margin (percent) | Revised Margin (percent)
Nan Ya Plastics Corporation, Ltd. | 2.70 | 2.49
Shinkong Synthetic Fibers Corporation | 2.05 | 2.05
All Others | 2.56 | 2.40

This notice constitutes the antidumping duty order with respect to PET film from Taiwan. Interested parties may contact the Department's Central Records Unit, Room B-099 of the main Commerce building, for copies of an updated list of antidumping duty orders currently in effect.

This order is issued and published in accordance with section 736(a) of the Act and

19 CFR 351.211.

Dated: June 25, 2002
Joseph A. Spetrini,
Acting Assistant Secretary for Import Administration.

[FR Doc. 02-16508 Filed 6-28-02; 8:45 am]

BILLING CODE 3510-DS-S